NATIONAL SCIENCE FOUNDATION

Advisory Committee for Biological Sciences; Notice of Meeting

In accordance with the Federal Advisory Committee Act (Pub. L. 92-463, as amended), the National Science Foundation (NSF) announces the following meeting:

Name and Committee Code: Advisory Committee for Biological Sciences (#1110).

Date and Time: May 24, 2019; 10:00 a.m.-4:00 p.m.

Place: National Science Foundation, 2415 Eisenhower Avenue, Alexandria, VA 22314; Room E 3410.

Please contact Melody Jenkins at MJenkins@nsf.gov to obtain a visitor badge. All visitors to the NSF will be required to show photo ID to obtain a badge.

Type of Meeting: Open.

Contact Person: Nancy Sung, National Science Foundation, 2415 Eisenhower Avenue, Room C 12031, Alexandria, VA 22314; Telephone: (703) 292-8400.

Purpose of Meeting: The Advisory Committee for the Directorate for Biological Sciences (BIO) provides advice, recommendations, and oversight concerning major program emphases, directions, and goals for the research-related activities of the divisions that make up BIO.

Agenda: This meeting will be held telephonically among the Advisory Committee members; public visitors will be able to attend the meeting in person at NSF headquarters. Agenda items will include welcoming new Advisory Committee (AC) members, Directorate updates; Committee on Equal Opportunities in Science and Engineering updates; Subcommittee updates; National Ecological Observatory Network (NEON) updates, discussion of programmatic activities within BIO and other matters relevant to the Directorate for Biological Sciences.

Dated: April 18, 2019.
Crystal Robinson,
Committee Management Officer.

[FR Doc. 2019-08212 Filed 4-23-19; 8:45 am]

BILLING CODE 7555-01-P